SMALL BUSINESS ADMINISTRATION

[Delegation of Authority No. 24 (Revision 1)]

Delegation of Authority; Chief Operating Officer Functions Delegated to Chief of Staff

AGENCY: U.S. Small Business Administration.

ACTION: Notice of delegation of authority.

SUMMARY: This is notice that the Administrator of the Small Business Administration (SBA) has delegated to the Chief of Staff of SBA the functions of the SBA Chief Operating Officer.

FOR FURTHER INFORMATION CONTACT: Nicole Nelson, 409 Third Street SW, Washington, DC 20416, (202) 205-7540.

SUPPLEMENTARY INFORMATION: This document provides the public with notice of the Administrator's delegation of authority, dated April 18, 2018, to the Chief of Staff to perform the functions of the Chief Operating Officer. Delegation of Authority No. 24 to the Chief Operating Officer (77 FR 20474, April 4, 2012) is hereby superseded by this Delegation of Authority No. 24 (Revision 1).

This delegation of authority reads as follows:

Pursuant to the authority vested in me, I hereby delegate to the SBA Chief of Staff the authority to perform all of the functions of the SBA Chief Operating Officer.

The authority delegated herein may not be re-delegated. In the event that the Chief of Staff is absent from the office, as defined in SBA Standard Operating Procedure 00 01 2, or is unable to perform the functions and duties of the position, an individual serving in an acting capacity or pursuant to a written and established line of succession shall have the authority delegated herein.

All previous delegations of authority from the Administrator to any other officer of the Agency are hereby superseded to the extent that such previous delegations are inconsistent with this delegation of authority. This authority will remain in effect until revoked in writing by the Administrator or by operation of law.

Authority: 15 U.S.C. 634 and 31 U.S.C. 1123.

Dated: April 18, 2018.
Linda E. McMahon,
Administrator.

[FR Doc. 2018-08978 Filed 4-26-18; 8:45 am]

BILLING CODE 8025-01-P